DEPARTMENT OF HOMELAND SECURITY

Coast Guard

33 CFR Part 165

[Docket No. USCG-2014-0642]

RIN 1625-AA00

Safety Zone; USA Triathlon; Milwaukee Harbor; Milwaukee, WI

AGENCY: Coast Guard, DHS.

ACTION: Notice of enforcement of regulation.

SUMMARY: The Coast Guard will enforce the safety zone on Lake Michigan within Milwaukee Harbor, Wisconsin for the 2014 Olympic and Sprint Distance National Championships at specified times from August 8 to August 10, 2014. This action is necessary and intended to ensure safety of life on the navigable waters of the United States during the Olympic and Sprint Distance National Championships. During the aforementioned period, the Coast Guard will enforce restrictions upon, and control movement of, vessels in the safety zone. No person or vessel may enter the safety zone while it is being enforced without permission of the Captain of the Port Lake Michigan.

DATES: The regulations in 33 CFR 165.T09-0140 will be enforced on August 8, 2014, from 10:30 a.m. to 2 p.m.; August 9, 2014, from 6:30 a.m. to 4:30 p.m.; and August 10, 2014, from 6:30 a.m. to 11:30 a.m.

FOR FURTHER INFORMATION CONTACT: If you have questions on this document, call or email MST1 Joseph McCollum, Prevention Department, Coast Guard Sector Lake Michigan, Milwaukee, WI at 414-747-7148, email Joseph.P.Mccollum@uscg.mil.

SUPPLEMENTARY INFORMATION: The Coast Guard will enforce the safety zone listed in 33 CFR 165.T09-0140 for the 2014 Olympic and Sprint Distance National Championships on August 8, 2014, from 10:30 a.m. to 2 p.m.; August 9, 2014, from 6:30 a.m. to 4:30 p.m.; and August 10, 2014, from 6:30 a.m. to 11:30 a.m. This zone encompasses all waters of Milwaukee Harbor, including Lakeshore inlet and Discovery World Marina, west of a line across the entrance to the Discovery World Marina connecting 43°02′15.1″ N, 087°53′37.4″ W and 43°01′44.2″ N, 087°53′44.6″ W (NAD 83).

All vessels must obtain permission from the Captain of the Port Lake Michigan or the on-scene representative to enter, move within, or exit the safety zone. Requests must be made in advance and approved by the Captain of the Port before transits will be authorized. Approvals will be granted on a case by case basis. Vessels and persons granted permission to enter the safety zone must obey all lawful orders or directions of the Captain of the Port Lake Michigan or a designated representative.

This document is issued under authority of 33 CFR 165.T09-0140 and 5 U.S.C. 552(a). In addition to this publication in the Federal Register, the Coast Guard will provide the maritime community with advance notification of this enforcement period via broadcast Notice to Mariners or Local Notice to Mariners. The Captain of the Port Lake Michigan or her on-scene representative may be contacted via VHF Channel 16.

Dated: July 10, 2014.
A.B. Cocanour,
Captain, U.S. Coast Guard, Captain of the Port, Lake Michigan.

[FR Doc. 2014-17479 Filed 7-23-14; 8:45 am]

BILLING CODE 9110-04-P